DEPARTMENT OF ENERGY

Federal Energy Regulatory Commission

Combined Notice of Filings #1

Take notice that the Commission received the following electric rate filings:

Docket Numbers: ER20-2715-003; ER17-380-003; ER19-997-003; ER11-2424-014; ER19-358-001; ER19-359-001.

Applicants: Stored Solar, LLC, Stored Solar J&WE, LLC, Stored Solar Bethlehem, LLC, Stored Solar Tamworth, LLC, Stored Solar Whitefield LLC, Stored Solar Springfield, LLC.

Description: Notice of Non-Material Change in Status of Stored Solar Entities, et. al.

Filed Date: 1/4/21.

Accession Number: 20210104-5395.

Comments Due: 5 p.m. ET 1/25/21.

Docket Numbers: ER21-21-001.

Applicants: Harts Mill Solar, LLC.

Description: Compliance filing: Revised Rate Schedule FERC No. 1 to be effective 12/2/2020.

Filed Date: 1/6/21.

Accession Number: 20210106-5005.

Comments Due: 5 p.m. ET 1/27/21.

Docket Numbers: ER21-350-001.

Applicants: Highlander Solar Energy Station 1, LLC.

Description: Compliance filing: Revised Rate Schedule FERC No. 1 to be effective 12/1/2020.

Filed Date: 1/6/21.

Accession Number: 20210106-5021.

Comments Due: 5 p.m. ET 1/27/21.

Docket Numbers: ER21-370-001.

Applicants: Cleco Power LLC.

Description: Tariff Amendment: Amendment to Rate Schedule for Blackstart Service to be effective 1/9/2021.

Filed Date: 1/6/21.

Accession Number: 20210106-5028.

Comments Due: 5 p.m. ET 1/27/21.

Docket Numbers: ER21-711-001.

Applicants: PacifiCorp.

Description: Tariff Amendment: OATT Revised Attachment H-1 (Rev Dep Rates)—Supplemental Filing to be effective 1/1/2021.

Filed Date: 1/6/21.

Accession Number: 20210106-5040.

Comments Due: 5 p.m. ET 1/27/21.

Docket Numbers: ER21-816-000.

Applicants: ISO New England Inc., New England Power Pool Participants Committee.

Description: § 205(d) Rate Filing: ISO-NE & NEPOOL; Rev. Related to Disclosure Information Under FAP to be effective 3/9/2021.

Filed Date: 1/6/21.

Accession Number: 20210106-5006.

Comments Due: 5 p.m. ET 1/27/21.

Docket Numbers: ER21-817-000.

Applicants: Midcontinent Independent System Operator, Inc.

Description: § 205(d) Rate Filing: 2021-01-06_SA 3616 Entergy Louisiana-EDF Renewables Development GIA (J1076) to be effective 3/8/2021.

Filed Date: 1/6/21.

Accession Number: 20210106-5026.

Comments Due: 5 p.m. ET 1/27/21.

Docket Numbers: ER21-818-000.

Applicants: PJM Interconnection, L.L.C.

Description: § 205(d) Rate Filing: Correction to eTariff Metadata for SA No. 5581 Filed in Docket No. ER20-2002 to be effective 8/4/2020.

Filed Date: 1/6/21.

Accession Number: 20210106-5034.

Comments Due: 5 p.m. ET 1/27/21.

Docket Numbers: ER21-819-000.

Applicants: PJM Interconnection, L.L.C.

Description: § 205(d) Rate Filing: Correction to eTariff Metadata for SA No. 5582 Filed in Docket No. ER20-2003 to be effective 8/4/2020.

Filed Date: 1/6/21.

Accession Number: 20210106-5035.

Comments Due: 5 p.m. ET 1/27/21.

Docket Numbers: ER21-820-000.

Applicants: Midcontinent Independent System Operator, Inc.

Description: § 205(d) Rate Filing: 2021-01-06_SA 3617 ELL-EDF-St. James-St James II MPFCA (J1076 J1142 J1158) to be effective 3/8/2021.

Filed Date: 1/6/21.

Accession Number: 20210106-5037.

Comments Due: 5 p.m. ET 1/27/21.

Docket Numbers: ER21-821-000.

Applicants: PJM Interconnection, L.L.C.

Description: § 205(d) Rate Filing: Original ISA, Service Agreement No. 5868; Queue No. AC2-165 to be effective 12/7/2020.

Filed Date: 1/6/21.

Accession Number: 20210106-5039.

Comments Due: 5 p.m. ET 1/27/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 6, 2021.
Nathaniel J. Davis, Sr.,
Deputy Secretary.

[FR Doc. 2021-00404 Filed 1-11-21; 8:45 am]

BILLING CODE 6717-01-P